NATIONAL AERONAUTICS AND SPACE ADMINISTRATION

[Notice 01-078]

U.S. Centennial of Flight Commission; Meeting

AGENCY: National Aeronautics and Space Administration.

ACTION: Notice of meeting.

SUMMARY: In accordance with the Federal Advisory Committee Act, Pub. L. 92-463, as amended, the National Aeronautics and Space Administration announces a meeting of the U.S. Centennial of Flight Commission.

DATES: Tuesday, July 10, 2001, 1:00 p.m. to 5:00 p.m.

ADDRESSES: National Aeronautics and Space Administration, 300 E Street, SW, Room 6H46 (MIC 6), Washington, DC 20546. Attendees must check in at the Security Desk to be cleared to the 6th floor conference room.

FOR FURTHER INFORMATION CONTACT: Ms. Beverly Farmarco, Code ZC,National Aeronautics and Space Administration, Washington, DC 20546, 202/358-1903.

SUPPLEMENTARY INFORMATION: The meeting will be open to the public up to the seating capacity of the room. The agenda for the meeting is as follows:

—Opening Comments

—AIAA Presentation

—Air Force Presentation

—North Carolina Status

—Presentation by Chip Forbes of C. Forbes, Inc.

—Special Recognition

—Web Site Demo/Web Trend Reports

—Paris Air Show Report by Aviation Week

—Roger Richman Agency Presentation

—Presentation by new Outreach Contract (not yet selected)

—Adjourn

It is imperative that the meeting be held on this date to accommodate the scheduling priorities of the key participants.Visitors will be requested to sign a visitor's register.

Dated: June 15, 2001.
Beth M. McCormick,
Advisory Committee Management Officer, National Aeronautics and Space Administration.

[FR Doc. 01-15612 Filed 6-20-01; 8:45 am]

BILLING CODE 7510-01-P